DEPARTMENT OF COMMERCE

National Oceanic and Atmospheric Administration

[RTID 0648-XB792]

Marine Mammals and Endangered Species

AGENCY: National Marine Fisheries Service (NMFS), National Oceanic and Atmospheric Administration (NOAA), Commerce.

ACTION: Notice; issuance of permits, permit amendments, and permit modifications.

SUMMARY: Notice is hereby given that permits, permit amendments, and permit modifications have been issued to the following entities under the Marine Mammal Protection Act (MMPA) and the Endangered Species Act (ESA), as applicable.

ADDRESSES: The permits and related documents are available for review upon written request via email to NMFS.Pr1Comments@noaa.gov.

FOR FURTHER INFORMATION CONTACT: Shasta McClenahan, Ph.D. (Permit Nos. 20646-01 and 25885); Courtney Smith, Ph.D. (Permit No. 21143-01); Erin Markin, Ph.D. (Permit No. 23200-01); Carrie Hubard (Permit No. 25900); and Malcolm Mohead (Permit Nos. 19641-03 and 25864); at (301) 427-8401.

SUPPLEMENTARY INFORMATION: Notices were published in the Federal Register on the dates listed below that requests for a permit, permit amendment, or permit modification had been submitted by the below-named applicants. To locate the Federal Register notice that announced our receipt of the application and a complete description of the activities, go to www.federalregister.gov and search on the permit number provided in Table 1 below.

Table 1—Issued Permits, Permit Amendments, and Permit Modifications
Permit No. | RTID | Applicant | Previous Federal Register notice | Issuance date
20646-01 | 0648-XF213 | Morgridge Institute for Research, 330 North Orchard Street, Madison, WI 53715 (Responsible Party: James Thomson, Ph.D.) | 82 FR 29053; June 27, 2017 | January 4, 2022.
23200-01 | 0648-SB500 | University of North Carolina, Wilmington, 601 South College Road, Wilmington, NC 28403 (Responsible Party: Frederick Scharf, Ph.D.) | 86 FR 56692; October 12, 2021 | January 24, 2022.
25885 | 0648-XB610 | Peter Thielen, D. Eng., Johns Hopkins University, Applied Physics Laboratory, 11100 Johns Hopkins Road, Laurel, MD 20723 | 86 FR 67036; November 24, 2021 | January 18, 2022.
21143-01 | 0648-XF500 | Jeremy Kiszka, Ph.D., Florida International University, 3000 NE 151st Street, Marine Science Building, Room 250D, North Miami, FL 33181 | 82 FR 31950; July 11, 2017 | January 27, 2022.
25900 | 0648-XB547 | Echo Pictures Ltd., St Nicholas House, 31-34 High Street, Bristol, BS1 2AW, United Kingdom (Responsible Party: Joe Stevens) | 86 FR 69622; December 8, 2021 | January 24, 2022.
25864 | 0648-SB500 | Gregg Poulakis, Ph.D., Florida Fish and Wildlife Conservation Commission, 585 Prineville Street, Port Charlotte, FL 33954 | 86 FR 56692; October 12, 2021 | January 24, 2022.
19641-03 | 0648-SB500 | Tom Savoy, Connecticut Department of Energy and Environmental Protection, P.O. Box 719, Old Lyme, CT 06371 | 86 FR 56692; October 12, 2021 | January 24, 2022.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) Were applied for in good faith; (2) will not operate to the disadvantage of such endangered species; and (3) are consistent with the purposes and policies set forth in Section 2 of the ESA.

Authority: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable.

Dated: February 7, 2022.
Julia M. Harrison,
Chief, Permits and Conservation Division, Office of Protected Resources, National Marine Fisheries Service.

[FR Doc. 2022-02832 Filed 2-9-22; 8:45 am]

BILLING CODE 3510-22-P